NUCLEAR REGULATORY COMMISSION

Notice of Availability of Model Application Concerning Technical Specifications for Combustion Engineering Plants To Risk-Inform Requirements Regarding Selected Required Action End States Using the Consolidated Line Item Improvement Process

AGENCY: Nuclear Regulatory Commission.

ACTION: Notice of availability.

SUMMARY: Notice is hereby given that the staff of the Nuclear Regulatory Commission (NRC) has prepared a model application related to the revision of Combustion Engineering (CE) plant required action end state requirements in technical specifications (TS). The purpose of this model is to permit the NRC to efficiently process amendments that propose to revise CE TS required action end state requirements. Licensees of nuclear power reactors to which the model applies may request amendments utilizing the model application.

DATES: The NRC staff issued a Federal Register notice (70 FR 23238, May 4, 2005) that provided a model safety evaluation (SE) and a model no significant hazards consideration (NSHC) determination relating to changing CE TS required action end state requirements. The NRC staff hereby announces that the model SE and NSHC determination may be referenced in plant-specific applications to adopt the changes. The staff has posted a model application on the NRC Web site to assist licensees in using the consolidated line item improvement process (CLIIP) to revise the CE TS required action end state requirements. The NRC staff can most efficiently consider applications based upon the model application if the application is submitted within a year of this Federal Register notice.

FOR FURTHER INFORMATION CONTACT: William Reckley, Mail Stop: O7D1, Division of Licensing Project Management, Office of Nuclear Reactor Regulation, U.S. Nuclear Regulatory Commission, Washington, DC 20555-0001, telephone 301-415-1323.

SUPPLEMENTARY INFORMATION:

Background

Regulatory Issue Summary 2000-06, “Consolidated Line Item Improvement Process for Adopting Standard Technical Specification Changes for Power Reactors,” was issued on March 20, 2000. The CLIIP is intended to improve the efficiency of NRC licensing processes. This is accomplished by processing proposed changes to the standard TS (STS) in a manner that supports subsequent license amendment applications. The CLIIP includes an opportunity for the public to comment on proposed changes to the STS following a preliminary assessment by the NRC staff and finding that the change will likely be offered for adoption by licensees. The CLIIP directs the NRC staff to evaluate any comments received for a proposed change to the STS and to either reconsider the change or to proceed with announcing the availability of the change for proposed adoption by licensees. Those licensees opting to apply for the subject change to TS are responsible for reviewing the staff's evaluation, referencing the applicable technical justifications, and providing any necessary plant-specific information. Each amendment application made in response to the notice of availability will be processed and noticed in accordance with applicable rules and NRC procedures.

This notice involves the revision of CE TS required action end state requirements. This proposed change was proposed for incorporation into the STS by participants in the Technical Specification Task Force (TSTF) and is designated TSTF-422, Revision 1. TSTF-422 can be viewed on the NRC Web site (http://www.nrc.gov).

Applicability

This proposed change to revise CE TS required action end state requirements is applicable to licensees for CE PWRs who have adopted or will adopt, in conjunction with the proposed change, technical specification requirements for a Bases control program consistent with the TS Bases Control Program described in Section 5.5 of the applicable vendor's STS.

To efficiently process the incoming license amendment applications, the staff requests each licensee applying for the changes addressed by TSTF-422 using the CLIIP to provide the information identified in the model application posted on the NRC Web site.

Public Notices

In a notice in the Federal Register dated May 4, 2005 (70 FR 23238), the staff requested comment on the use of the CLIIP to process requests to revise the CE TS regarding required action end state requirements.

TSTF-422, as well as the NRC staff's safety evaluation and model application, may be examined, and/or copied for a fee, at the NRC's Public Document Room, located at One White Flint North, 11555 Rockville Pike (first floor), Rockville, Maryland. Publicly available records are accessible electronically from the ADAMS Public Library component on the NRC Web site, (the Electronic Reading Room).

The staff did not receive any comments following the notice published on May 4, 2005 (70 FR 23238), soliciting comments on the model SE and NSHC determination related to TSTF-422, Revision 1. The NRC staff has not made any changes to the previously published model SE and NSHC determination related to TSTF-422, Revision 1. The staff finds that the previously published models remain appropriate references and has chosen not to republish the model SE and model NSHC determination in this notice. As described in the model application prepared by the staff, licensees may reference in their plant-specific applications to adopt TSTF-422, the SE and NSHC determination previously published in the Federal Register (70 FR 23238; May 4, 2005).

Dated in Rockville, Maryland, this 23rd day of June 2005.
For the Nuclear Regulatory Commission.
Thomas H. Boyce,
Section Chief, Technical Specifications Section, Operating Improvements Branch, Division of Regulatory Improvement Programs, Office of Nuclear Reactor Regulation.

For Inclusion on Technical Specification Web Page

The following example of an application was prepared by the NRC staff to facilitate the use of the consolidated line item improvement process (CLIIP). The model provides the expected level of detail and content for an application to adopt TSTF-422, Revision 1, “Risk-Informed Modifications to Selected Required Action End States,” for Combustion Engineering Plants using CLIIP. Licensees remain responsible for ensuring that their actual application fulfills their administrative requirements as well as NRC regulations.

U.S. Nuclear Regulatory Commission, Document Control Desk, Washington, DC 20555.

Subject: Plant Name

Docket No. 50-

Application for Technical Specification Improvement Regarding Risk-Informed Modifications to Selected Required Action End States for Combustion Engineering Plants

Gentlemen:

In accordance with the provisions of 10 CFR 50.90 of Title 10 of the Code of Federal Regulations (10 CFR), [LICENSEE] is submitting a request for an amendment to the technical specifications (TS) for [PLANT NAME, UNIT NOS.].

The proposed amendment would revise the Combustion Engineering (CE) TS requirements related to Required Action End States. The change is consistent with NRC-approved Technical Specification Task Force (TSTF) Standard Technical Specification Change Traveler, TSTF-422, Revision 1, “Risk-informed Modifications to Selected Required Action End States.” The availability of this TS improvement was announced in the Federal Register on [DATE] ([ ] FR [ ]) as part of the consolidated line item improvement process (CLIIP).

Attachment 1 provides a description of the proposed change and confirmation of applicability.

Attachment 2 provides the existing TS pages marked-up to show the proposed change.

[LICENSEE] requests approval of the proposed license amendment by [DATE], with the amendment being implemented [BY DATE OR WITHIN X DAYS].

In accordance with 10 CFR 50.91, a copy of this application, with attachments, is being provided to the designated [STATE] Official.

I declare under penalty of perjury under the laws of the United States of America that I am authorized by [LICENSEE] to make this request and that the foregoing is true and correct. [Note that request may be notarized in lieu of using this oath or affirmation statement].

If you should have any questions regarding this submittal, please contact [ ].

Sincerely,

Name, Title

Attachments:

1. Description and Assessment

2. Proposed Technical Specification Changes

cc: NRR Project Manager

Regional Office

Resident Inspector

State Contact

ATTACHMENT 1—Description and Assessment

1.0 INTRODUCTION

The proposed license amendment revises the requirements in Combustion Engineering (CE) Technical Specification (TS) requirements related to Required Action End States. The changes are consistent with NRC approved Technical Specification Task Force (TSTF) Standard Technical Specification Change Traveler, TSTF-422, Revision 1, “Risk-informed Modifications to Selected Required Action End States.” The availability of this technical specification improvement was announced in the Federal Register on [DATE] as part of the consolidated line item improvement process (CLIIP).

2.0 DESCRIPTION OF PROPOSED AMENDMENT

Consistent with the NRC-approved TSTF-422, Revision 1, the proposed TS changes include:

• Revised TS [3.3.5 (analog)], “Engineering Safety Features Actuation Signal (ESFAS) Logic and Manual Trip”

• Revised TS [3.3.6 (digital)], “ESFAS Logic and Manual Trip”

• Revised TS [3.3.8 (digital)], “Containment Purge and Isolation Signal (CPIS)”

• Revised TS [3.3.8 (analog), 3.3.9 (digital)], “Control Room Isolation Signal (CRIS)”

• Revised TS [3.3.9 (analog)], “Chemical and Volume Control System (CVCS) Isolation Signal”

• Revised TS [3.3.10 (analog)], “Shield Building Filtration Actuation Signal”

• Revised TS [3.4.6], “Reactor Coolant System (RCS) Loops—MODE 4”

• Revised TS [3.5.4], “Refueling Water Tank”

• Revised TS [3.6.2], “Containment Air Locks”

• Revised TS [3.6.3], “Containment Isolation Valves”

• Revised TS [3.6.4], “Containment Pressure”

• Revised TS [3.6.5], “Containment Air Temperature”

• Revised TS [3.6.6A], “Containment Spray and Cooling Systems (Atmospheric and Dual)” Credit taken for iodine removal by the Containment Spray System

• Revised TS [3.6.6B], “Containment Spray and Cooling Systems (Atmospheric and Dual)” Credit not taken for iodine removal by the Containment Spray System

• Revised TS [3.6.11], “Shield Building (Dual)”

• Revised TS [3.7.7], “Component Cooling Water System”

• Revised TS [3.7.8], “Service Water System”

• Revised TS [3.7.9], “Ultimate Heat Sink”

• Revised TS [3.7.10], “Essential Chill Water”

• Revised TS [3.7.11], “Control Room Emergency Air Cleanup System (CREACS)”

• Revised TS [3.7.12], “Control Room Emergency Air Temperature Control System (CREATCS)”

• Revised TS [3.7.13], “Emergency Core Cooling System Pump Room Exhaust Air Cleanup System (ECCS PREACS)”

• Revised TS [3.7.15], “Penetration Room Exhaust Air Cleanup System (PREACS)”

• Revised TS [3.8.1], “AC Sources—Operating”

• Revised TS [3.8.1], “AC Sources—Operating”

• Revised TS [3.8.4], “DC Sources—Operating”

• Revised TS [3.8.7], “Inverters—Operating”

Proposed revisions to the TS Bases are also included in this application. As discussed in the NRC's model safety evaluation, adoption of the revised TS Bases associated with TSTF-422, Revision 1 is an integral part of implementing this TS improvement. The changes to the affected TS Bases pages will be incorporated in accordance with the TS Bases Control Program.

3.0 BACKGROUND

The background for this application is adequately addressed by the NRC Notice of Availability published on [DATE ]([ ] FR [ ]), the NRC Notice for Comment published on May 4, 2005 (70 FR 23238), and TSTF-422, Revision 1.

4.0 REGULATORY REQUIREMENTS AND GUIDANCE

The applicable regulatory requirements and guidance associated with this application are adequately addressed by the NRC Notice of Availability published on [DATE ]([ ] FR [ ]), the NRC Notice for Comment published on May 4, 2005 (70 FR 23238), and TSTF-422, Revision 1.

5.0 TECHNICAL ANALYSIS

[LICENSEE] has reviewed the safety evaluation (SE) published on May 4, 2005 (70 FR 23238) as part of the CLIIP Notice for Comment. This included the NRC staff's SE supporting the changes associated with TSTF-422, Revision 1. [LICENSEE] has concluded that the justifications presented in the TSTF proposal and the SE prepared by the NRC staff are applicable to [PLANT, UNIT NOS.] and justify this amendment for the incorporation of the changes to the [PLANT] TS.

6.0 REGULATORY ANALYSIS

A description of this proposed change and its relationship to applicable regulatory requirements and guidance was provided in the NRC Notice of Availability published on [DATE ]([ ] FR [ ]), the NRC Notice for Comment published on May 4, 2005 (70 FR 23238), and TSTF-422, Revision 1.

6.1 LIST OF REGULATORY COMMITMENTS

The following table identifies those actions committed to by [LICENSEE] in this document. Any other statements in this submittal are provided for information purposes and are not considered to be regulatory commitments. Please direct questions regarding these commitments to [CONTACT NAME].

Regulatory commitments | Due date/event
[LICENSEE] will establish the Technical Specification Bases for the revised specifications as adopted with the applicable license amendment | [Complete, implemented with amendment OR within X days of implementation of amendment]
[LICENSEE] will follow the guidance established in Section 11 of NUMARC 93-01, “Industry Guidance for Monitoring the Effectiveness of Maintenance at Nuclear Power Plants,” Nuclear Management and Resource Council, Revision 3, July 2000 | [Ongoing, or implement with amendment]
[LICENSEE] will follow the guidance established in Revision 00 of WCAP-16364-NP, “Implementation Guidance for Risk Informed Modification to Selected Required Action End States at Combustion Engineering NSSS Plants (TSTF-422),” Westinghouse, November 2004 | [Implement with amendment, when TS Required Action End State remains within the APPLICABILITY of TS]

7.0 NO SIGNIFICANT HAZARDS CONSIDERATION

[LICENSEE] has reviewed the proposed no significant hazards consideration determination published on May 4, 2005 (70 FR 23238) as part of the CLIIP. [LICENSEE] has concluded that the proposed determination presented in the notice is applicable to [PLANT] and the determination is hereby incorporated by reference to satisfy the requirements of 10 CFR 50.91(a).

8.0 ENVIRONMENTAL EVALUATION

[LICENSEE] has reviewed the environmental consideration included in the model SE published on May 4, 2005 (70 FR 23238) as part of the CLIIP. [LICENSEE] has concluded that the staff's findings presented in that model SE are applicable to [PLANT] and the determination is hereby incorporated by reference for this application.

9.0 PRECEDENT

This application is being made in accordance with the CLIIP. [LICENSEE] is not proposing variations or deviations from the TS changes described in TSTF-422, Revision 1, or the NRC staff's model SE published on May 4, 2005 (70 FR 23238).

10.0 REFERENCES

Federal Register notices:

Notice for Comment published on May 4, 2005 (70 FR 23238)

Notice of Availability published on [DATE]([ ] FR [ ])

ATTACHMENT 2—PROPOSED TECHNICAL SPECIFICATION CHANGES (MARK-UP)

ATTACHMENT 3—PROPOSED TECHNICAL SPECIFICATION PAGES

ATTACHMENT 4—PROPOSED TECHNICAL SPECIFICATION BASES PAGES (MARK-UP)

[FR Doc. E5-3486 Filed 7-1-05; 8:45 am]

BILLING CODE 7590-01-P